SMALL BUSINESS ADMINISTRATION

Audit and Financial Management Advisory (AFMAC) Committee Public Meeting

The U.S. Small Business Administration, Audit and Financial Management Advisory Committee (AFMAC) will host a public meeting on Monday, September 25, 2006 at 9 a.m. The meeting will take place at the U.S. Small Business Administration, 409 3rd Street, SW., Office of the Chief Financial Officer Conference Room, 6th Floor, Washington, DC 20416. The purpose of the meeting is to discuss the SBA's FY 2006 Financial Reporting, the FY 2006 Audit/KPMG and OMB Circular A-123.

The AFMAC was established by the Administrator of the SBA to provide recommendation and advice regarding the Agency's financial management, including the financial reporting process, systems of internal controls, audit process and process for monitoring compliance with relevant laws and regulations.

Anyone wishing to attend must contact Jennifer Main in writing or by fax. Jennifer Main, Chief Financial Officer, 409 3rd Street, SW., 6th Floor, Washington, DC 20416, phone: (202) 205-6449, fax: (202) 205-6969, e-mail: Jennifer.main@sba.gov.

Joel Szabat,
Chief of Staff.

[FR Doc. E6-15361 Filed 9-15-06; 8:45 am]

BILLING CODE 8025-01-P